DEPARTMENT OF THE INTERIOR

National Park Service

[NPS-WASO-NAGPRA-19607; PPWOCRADN0-PCU00RP14.R50000]

Notice of Inventory Completion: Neville Public Museum of Brown County, Green Bay, WI

AGENCY: National Park Service, Interior.

ACTION: Notice.

SUMMARY: The Neville Public Museum of Brown County has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Neville Public Museum of Brown County. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Neville Public Museum of Brown County at the address in this notice by December 17, 2015.

ADDRESSES: Louise Pfotenhauer, Neville Public Museum of Brown County, 210 Museum Place, Green Bay, WI 54303, telephone (920) 448-7845,email Pfotenhauer_lc@co.brown.wi.us.

SUPPLEMENTARY INFORMATION: Notice is here given in accordance with the Native American Graves Protection and Repatriation Act (NAGPRA), 25 U.S.C. 3003, of the completion of an inventory of human remains and associated funerary objects under the control of the Neville Public Museum of Brown County, Green Bay, WI. The human remains and associated funerary objects were removed from Door County and Kewaunee County, WI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Neville Public Museum of Brown County professional staff in consultation with representatives of the Ho-Chunk Nation of Wisconsin and the Menominee Indian Tribe of Wisconsin.

History and Description of the Remains

In 1961, human remains representing, at minimum, one individual were removed from Rowleys Bay in Door County, WI. A partial skeleton of a 35-50 year-old person of indeterminate gender was discovered by landowner and excavated by a crew from Neville Public Museum of Brown County, under direction of Ron Mason. The human remains were brought to Neville Public Museum of Brown County after excavation. No known individuals were identified. The three associated funerary objects are 1 copper point, 1 antler flaker, and 1 vial with bone fragments and red ocher.

Associated copper point and red ocher suggest a Late Archaic date of burial. The Menominee and Ho-Chunk people are associated with long-term, pre-contact residence in northeast Wisconsin.

In 1961, human remains representing, at minimum, one individual were removed from Porte de Morts Site in Door County, WI. A partial skeleton of one adult of indeterminate gender was excavated by a crew from Neville Public Museum of Brown County, under direction of Ron J. Mason and Carol I. Mason. The human remains were kept at Lawrence University until 1994 when they were returned to the Neville Public Museum of Brown County. No known individuals were identified. No associated funerary objects are present.

The burial was made by people of the North Bay (pre-contact Middle Woodland Period) culture. The Menominee and Ho-Chunk people are two tribes whose origins lie in eastern Wisconsin, although their connection to the North Bay culture is not directly established by archeological evidence.

Between 1900 and 1930, human remains representing, at minimum, one individual were removed from the DeBaker Farm, Red River, Kewaunee County, WI. A partial skeleton of one adult, possibly female, was discovered by John P. Schumacher. The human remains were among sherds donated to the Neville Public Museum of Brown County by John P. Schumacher in 1935. No known individuals were identified. The 38 associated funerary objects are pottery sherds.

Recognizable pottery types include North Bay (Middle Woodland Period), Point Sauble collared and Madison folded lip (both Late Woodland types) and undecorated Oneota sherds from the late prehistoric period. One sherd may be historic.

This location was ceded to the U.S. Government by the Menominee people but is near Red Banks, a place of ancestral origin of some Ho-Chunk clans. Accompanying sherds indicate a pre-contact burial date is likely, but not conclusive.

Determinations Made by the Neville Public Museum of Brown County

Officials of the Neville Public Museum of Brown County have determined that:

• Pursuant to 25 U.S.C. 3001(9), the human remains described in this notice represent the physical remains of 3 individuals of Native American ancestry.

• Pursuant to 25 U.S.C. 3001(3)(A), the 41 objects described in this notice are reasonably believed to have been placed with or near individual human remains at the time of death or later as part of the death rite or ceremony.

• Pursuant to 25 U.S.C. 3001(2), there is a relationship of shared group identity that can be reasonably traced between the Native American human remains and associated funerary objects and Ho-Chunk Nation of Wisconsin and Menominee Indian Tribe of Wisconsin.

Additional Requestors and Disposition

Lineal descendants or representatives of any Indian tribe or Native Hawaiian organization not identified in this notice that wish to request transfer of control of these human remains and associated funerary objects should submit a written request with information in support of the request to Louise Pfotenhauer, Neville Public Museum of Brown County, 210 Museum Place, Green Bay, WI 54303, telephone (920) 448-7845, email Pfotenhauer_lc@co.brown.wi.us, by December 17, 2015. After that date, if no additional requestors have come forward, transfer of control of the human remains and associated funerary objects to Ho-Chunk Nation of Wisconsin and Menominee Indian Tribe of Wisconsin may proceed.

The Neville Public Museum of Brown County is responsible for notifying the Ho-Chunk Nation of Wisconsin and the Menominee Indian Tribe of Wisconsin that this notice has been published.

Dated: October 16, 2015.
Melanie O'Brien,
Manager, National NAGPRA Program.

[FR Doc. 2015-29352 Filed 11-16-15; 8:45 am]

BILLING CODE 4312-50-P